DEPARTMENT OF THE INTERIOR

Bureau of Land Management

[WY-100-05-1310-DB]

Notice of Initiation of the Nomination and Selection Process for the Pinedale Anticline Working Group, Sublette County, WY

AGENCY: Bureau of Land Management, Interior.

ACTION: Call for nominations for two individuals to serve as members of the Pinedale Anticline Working Group (PAWG) as part of the adaptive environmental management program for the Pinedale Anticline Project Area in Southwestern Wyoming. The PAWG has two vacancies on its advisory group for which the Bureau of Land Management (BLM) is seeking nominees: A public-at-large member and a representative from the Sublette County Government.

DATES: All nominations should be postmarked before or on the date 30 days from the publication of this notice in the Federal Register. Final selections will be made by the Secretary of the Interior and serve at her discretion.

ADDRESSES: You can obtain information and a copy of the Notice for the Nomination and Selection process by writing or visiting the following offices: Bureau of Land Management, Wyoming State Office, 5353 Yellowstone Road, P.O. Box 1828, Cheyenne, Wyoming 82003; Bureau of Land Management, Pinedale Field Office, 432 East Mill Street, P.O. Box 768, Pinedale, Wyoming 82941.

SUMMARY: On August 15, 2002, the Secretary of the Interior signed the Charter to establish the Pinedale Anticline Working Group (PAWG). Several interest groups, governmental agencies, and local interests are represented on the PAWG. Individuals or groups interested in completing the remainder of the 2-year membership term of the PAWG should submit the specified information within 30 days of publication of this notice in the Federal Register.

Nominations and supporting documentation should be sent to: Bureau of Land Management, Pinedale Field Office, ATTN: Mike Stiewig, PAWG Coordinator, P.O. Box 768, Pinedale, Wyoming 82941.

FOR FURTHER INFORMATION CONTACT: Mike Stiewig, PAWG Coordinator, BLM, Pinedale Field Office, P.O. Box 768, Pinedale, Wyoming 82941, telephone (307) 367-5363.

SUPPLEMENTARY INFORMATION: On August 15, 2004, the Secretary of the Interior renewed the Charter that established the Pinedale Anticline Working Group. Members were appointed for a 2-year term on May 24, 2004. There are currently two vacancies for members whose term would be completed on May 24, 2006. The Charter establishes several membership selection criteria and operational procedures for the PAWG. These are listed as follows:

(1) The PAWG will be composed of 9 members who reside in the State of Wyoming. The PAWG members will be appointed by and serve at the pleasure of the Secretary of Interior.

(2) Members of the PAWG will be as follows:

• A representative from the State of Wyoming Office of Federal Land Policy.

• A representative from the Town of Pinedale.

• A representative from the oil/gas operators active in the Pinedale Anticline area.

• A representative from the Sublette County Government.

• A representative from statewide or local environmental groups.

• A representative from the landowners within or bordering the Pinedale Anticline area.

• A representative of livestock operators operating within or bordering the Pinedale Anticline area.

• Two members from the public-at-large.

(3) Members should have demonstrated an ability to analyze and interpret data and information, evaluate proposals, identify problems, and promote the use of collaborative management techniques (such as, long term planning, management across jurisdictional boundaries, data sharing, information exchange, and partnerships), and a knowledge of issues involving oil and gas development activities.

(4) PAWG members will be appointed for 2-year terms, subject to removal by the Secretary of the Interior. At the discretion of the Secretary of the Interior, members may be reappointed to additional terms.

Individuals who wish to become a member of the PAWG should complete and submit the following information to the Pinedale Field Office by close of business, 30 days after the publication of this notice in the Federal Register:

A. Representative Groups: Public-at-large member and representative from Sublette County government.

B. Nominee's Full Name:

C. Business Address:

D. Business Phone:

E. Home Address:

F. Home Phone:

G. Occupation/Title:

H. Qualifications (education including colleges, degrees, major field of study and/or training):

I. Career Highlights (significant related experience, civic and professional activities, elected offices, prior advisory committee experience, or career achievements related to the interest to be represented):

J. Experience in collaborative management techniques, such as long term planning, management across jurisdictional boundaries, data sharing, information exchange and partnerships:

K. Experience in data analysis and interpretation, problem identification and evaluation of proposals:

L. Knowledge of issues involving oil and gas development:

M. Indicate Specific Area of Interest to be Represented from the following: One representative from the public-at-large or one representative from Sublette County Government.

N. List any leases, license, permits, contracts or claims that you hold which involve lands or resources administered by the BLM:

O. Attach two or three Letters of Reference from interests or organization to be represented:

P. Nominated by: Include Nominator's name, address and telephone number(s), if applicable.

Q. Date of nomination:

Dated: September 16, 2005.
Robert A. Bennett,
State Director.

[FR Doc. 05-21390 Filed 10-25-05; 8:45 am]

BILLING CODE 4310-22-P